DEPARTMENT OF ENERGY

Federal Energy Regulatory Commission

[Docket No. RP01-254-001]

Viking Gas Transmission Company; Notice of Filing

March 29, 2001.

Take notice that on March 26, 2001, Viking Gas Transmission Company (Viking) tendered for filing as part of its FERC Gas Tariff, First Revised Volume No. 1, Substitute Eighth Revised Sheet No. 6B to become effective April 1, 2001. Viking states that the filing is being submitted as corrections to its March 1, 2001 filing in Docket No. RP01-254-000.

Viking states that the purpose of this filing is to correct an error made with respect to Viking's Fuel and Loss Retention Percentages (FLRP) that were filed in Docket No. RP01-247-000 as Seventh Revised Sheet No. 6B and consequently incorporated on Eighth Revised Sheet No. 6B. Contemporaneous with this filing, Viking is filing in Docket No. RP01-247-000 to correct the mistakes on Seventh Revised Sheet No. 6B. Viking further states that it is making no change to the annual adjustment to its Load Management Cost Reconciliation Adjustment that Viking filed in Docket No. RP01-254-000 on March 1, 2001.

Viking states that copies of the filing have been mailed to all persons listed on the official service list of this proceeding and to all of Viking's jurisdictional customers and to affected state regulatory commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Comments, protests and interventions may be filed electronically via the internet in lieu of paper. See, 18 CFR 385.2001(a)(1)(iii) and the instructions on the Commission's web site at http://www.ferc.fed.us/efi/doorbell.htm.

David P. Boergers,
Secretary.

[FR Doc. 01-8256 Filed 4-3-01; 8:45 am]

BILLING CODE 6717-01-M